DEPARTMENT OF TRANSPORTATION

Federal Aviation Administration

14 CFR Part 71

[Docket No. FAA-2024-1361; Airspace Docket No. 24-ANE-5]

RIN 2120-AA66

Revocation of Class E Airspace; Manchester, NH

AGENCY: Federal Aviation Administration (FAA), DOT.

ACTION: Final rule; withdrawal.

SUMMARY: A final rule was published in the Federal Register on August 19, 2024, revoking Class E surface airspace for Manchester Boston Regional Airport, Manchester, NH, as the overlying Class C airspace deemed the Class E surface airspace unnecessary. The FAA has determined that withdrawal of the final rule is warranted since this action was inconsistent with the associated notice of proposed rulemaking that referenced Class E surface airspace.

DATES: The final rule published in the Federal Register on August 19, 2024 (89 FR 66988) is withdrawn as of November 4, 2024.

FOR FURTHER INFORMATION CONTACT: Marc Ellerbee, Operations Support Group, Eastern Service Center, Federal Aviation Administration, 1701 Columbia Ave., College Park, GA 30337; Telephone (404) 305-5589.

SUPPLEMENTARY INFORMATION:

History

The FAA published a final rule in the Federal Register (89 FR 66988, August 19, 2024) for Doc. No. FAA-2024-1361, revoking Class E surface airspace for Manchester Boston Regional Airport, Manchester, NH. After publication, the FAA found that this final rule revoked Class E surface airspace but referenced Class E airspace extending upward from 700 feet above the surface. As a result, the final rule is being withdrawn.

The Withdrawal

In consideration of the foregoing, the final rule for Docket No. FAA-2024-1361 (89 FR 66988, August 19, 2024), FR Doc. 2024-18435, is hereby withdrawn.

Authority: 49 U.S.C. 106(f), 106(g); 40103, 40113, 40120; E.O. 10854, 24 FR 9565, 3 CFR, 1959-1963 Comp., p. 389.

Issued in College Park, Georgia, on October 28, 2024.
Patrick Young,
Manager, Airspace & Procedures Team North, Eastern Service Center, Air Traffic Organization.

[FR Doc. 2024-25449 Filed 10-31-24; 8:45 am]

BILLING CODE 4910-13-P